DEPARTMENT OF DEFENSE

Department of the Army; Corps of Engineers

The Release of the Draft Environmental Impact Statement and the Announcement of a Public Hearing for the North Topsail Beach Shoreline Protection Project, in North Topsail Beach, Onslow County, NC

AGENCY: Department of the Army, U.S. Army Corps of Engineers, DoD.

ACTION: Notice.

SUMMARY: The U.S. Army Corps of Engineers (COE), Wilmington District, Wilmington Regulatory Field Office has received a request for Department of the Army authorization, pursuant to Section 404 of the Clean Water Act and Section 10 of the Rivers and Harbors Act, from the Town of North Topsail Beach to nourish approximately 11.1 miles of beachfront to protect residential homes and town infrastructures, to reposition the New River Inlet channel, and to implement an inlet management plan to control the positioning of the new inlet channel, and to conduct periodic renourishment events. The new channel will be centrally located and the proposal will be to maintain that position, which essentially will be located perpendicular to the adjacent shorelines of North Topsail Beach and Onslow Beach. The proposed source of the material for the nourishment will be dredged from an offshore borrow area and from the repositioning of the inlet. The projected amount of material needed to nourish the oceanfront shoreline is approximately 3.21 million cubic yards. The placement of beach fill along the Town's shoreline would result in the initial widening of the beach by 50 to 100 feet. The widened beach would be maintained through a program of periodic beach nourishment events with the material extracted from the New River Inlet; and if necessary, supplemental materials from the offshore borrow area. All work will be accomplished using a hydraulic dredge. The proposed project construction will be conducted in a five phase approach to correspond with the Town's anticipated annual generation of funds.

The ocean shoreline of the Town of North Topsail Beach encompasses approximately 11.1 miles along the northern end of Topsail Island. Of the 11.1 miles, approximately 7.25-miles of the shoreline in the project area, with the exception of two small areas, is located within the Coastal Barrier Resource System (CBRS), which prohibits the expenditure of Federal funds that would encourage development.

The channel through New River Inlet has been maintained by the COE for commercial and recreational boating interest for over 55 years. The COE is authorized to maintain the channel in the inlet to a depth of 6 feet mean low water (mlw) over a width of 90 feet.

DATES: The Public Hearing will be held at the North Topsail Beach Town Hall, located at 2008 Loggerhead Court, off NC Hwy 210, on January 9, 2007 at 6:30 p.m. Written comments on the Draft EIS will be received until January 29, 2008.

ADDRESSES: Copies of comments and questions regarding the Draft EIS may be addressed to: U.S. Army Corps of Engineers, Wilmington District, Regulatory Division. ATTN: File Number 2005-344-067, P.O. Box 1890, Wilmington, NC 28402-1890. Copies of the Draft EIS can be reviewed on the Coastal Planning & Engineering homepage at, http://www.coastalplanning.net/projects/temp/ntopsail.html, or contact Ms. Gwen Dye, at (910) 251-4494, to receive written or CD copies of the Draft EIS.

FOR FURTHER INFORMATION CONTACT: Questions about the proposed action and DEIS can be directed to Mr. Mickey Sugg, Wilmington Regulatory Field Office, telephone: (910) 251-4811.

SUPPLEMENTARY INFORMATION: 1. Project Description. The Town of North Topsail Beach, located along the north-northeast 11.1 miles of Topsail Island in North Carolina, is proposing to nourish the oceanfront shoreline and reposition New River Inlet channel as a means to address a severe erosion problem that is threatening development and town infrastructure. The entire stretch of the Town's shoreline has experienced a considerable amount of erosion over the last 20 years due primarily to the impact of numerous tropical storms and hurricanes during the mid to late 1990's and due to impacts of the uncontrolled movement of the main ebb channel in New River Inlet. The Town has stated that the shoreline erosion and residual effects of the storms have left North Topsail Beach in an extremely vulnerable position with regard to its ocean front development and infrastructure. They have estimated that over $250 million in property tax value as well as roads, water and sewer lines, and other utilities are at risk. The stated goals and objectives of the project are the following: (1) Stabilize the oceanfront shoreline located immediately south of New River Inlet, (2) Provide short-term protection to the 31 imminently threatened residential structures over the next zero to five years, (3) Provide long-term protection to Town infrastructure and approximately 1,200 homes over the next thirty years, (4) Reduce or mitigate for historic shoreline erosion along 11.1 miles of oceanfront shoreline, (5) Improve recreational opportunities, (6) Use beach compatible material, (7) Maintain the Town's tax base, and (8) Balance the needs of the human environment with the protection of existing natural resources.

The project is divided into three sections; North, South, and Central. The North Section starts from the inlet shoulder and runs approximately 21,000 linear feet along the ocean shoreline. The Central Section is located both north and south of NC Hwy 210/55 Bridge and is approximately 16,500 linear feet, while the South Section, which is outside of the CBRS designation, includes approximately 20,320 linear feet of shoreline. The Town is proposing to undertake the nourishment along the 11.1 miles of oceanfront in a five phase approach within a dredging window between November 16 and March 31 of any year. The first phase will include the relocation of the inlet channel with the dredged inlet material being used to nourish approximately 14,000 linear feet of shoreline in the North Section. Construction timeline for Phase One will be within the 2008-2009 dredging window. Phase Two would take place during the 2010-2011 dredging window using the offshore borrow source, and will nourish approximately 5,140 linear feet in the North Section. The third phase will place offshore borrow material along approximately 11,500 linear feet within the southern part of the Central Section, and is proposed during the 2012-2013 dredging window. For Phase Four, offshore material will be used to nourish 6,880 linear feet of shoreline in the north part of the Central Section and part of the southern tip of the North Section. This construction will take place in the 2014-2015 dredging window. The final phase of nourishment will encompass the entire South Section, using the offshore borrow site, and will be conducted in the 2016-2017 dredging window.

2. Proposed Action. Within the Town's preferred alternative, the relocation of the inlet channel is a main component in the protection of the North Section of the project area. The inlet management plan includes the repositioning the main ocean bar channel to a more southerly alignment along an approximate 150 degree azimuth and maintaining that position and alignment approximately every four years. Initial construction of the new channel and subsequent maintenance events will result in a channel width of 500 feet at −18 foot NAVD depth. The new channel will start within the inlet gorge and will extend approximately 3,500 linear feet southeast breaching through the ocean bar. The amount of material to be extracted during the realignment of the channel is approximately 635,800 cubic yards. The composite mean grain size of the dredged material is approximately 0.32mm, compared to the native beach material at 0.23mm.

For the remaining phases, all the material used to nourish the beaches will be dredged from an offshore borrow area. The borrow area is located approximately 1.5 miles offshore within the Central Section, and just southwest of the NC 210 bridge. The site is approximately 482 acres in size and is divided into two sections: (1) A 459-acre area with finer grain size (composite mean grain size of 0.21mm) containing approximately 6.19 million cubic yards and (2) a 23-acre area with coarser material at a composite mean grain size of 0.33mm encompassing approximately 357,000 cubic yards. The division of the borrow site into coarser and finer materials resulted in the use of the Point of Intercept Concept or “perched beached” for the placement of material in areas where nearshore hard bottom communities were present. For nourishment in areas within close proximity to nearshore hard bottoms, the beach profiles were designed to use coarser material in order to reduce the fill toe of equilibrium.

3. Alternatives. Several alternatives have been identified and evaluated through the scoping process, and further detailed description of all alternatives is disclosed in Section 3.0 of the Draft EIS. The applicant's preferred alternative is to relocate the main ocean bar channel to a southerly alignment, implement an inlet management plan, nourish approximately 11.1 miles of ocean shoreline, and to construct the work in a five phase approach.

4. Scoping Process. A public scoping meeting was held on June 5, 2005 and a Project Delivery Team (PDT) was developed to provide input in the preparation of the EIS. The PDT comprised of local, state, and federal government officials, local residents and nonprofit organizations.

The COE has initiated consultation with the U.S. Fish and Wildlife Service under the Endangered Species Act and the Fish and Wildlife Coordination Act, and with the National Marine Fisheries Service under the Magnuson-Stevens Act and Endangered Species Act. Additionally, the EIS assesses the potential water quality impacts pursuant to Section 401 of the Clean Water Act, and is coordinated with the North Carolina Division of Coastal Management (DCM) to insure the projects consistency with the Coastal Zone Management Act. The COE is coordinating closely with DCM in the development of the EIS to ensure the process complies with State Environmental Policy Act (SEPA) requirements, as well as the NEPA requirements. The Draft EIS has been designed to consolidate both NEPA and SEPA processes to eliminate duplications.

Dated: December 6, 2007.
John E. Pulliam, Jr.,
Colonel, U.S. Army, District Commander.

[FR Doc. E7-24247 Filed 12-13-07; 8:45 am]

BILLING CODE 3710-GN-P